SUSQUEHANNA RIVER BASIN COMMISSION

Public Hearing

AGENCY: Susquehanna River Basin Commission.

ACTION: Notice.

SUMMARY: The Susquehanna River Basin Commission will hold a public hearing on August 12, 2021. Due to the COVID-19 situation and the relevant orders in place in the Commission's member jurisdictions, the Commission will hold this hearing telephonically. At this public hearing, the Commission will hear testimony on the projects listed in the Supplementary Information section of this notice. Such projects and proposals are intended to be scheduled for Commission action at its next business meeting, tentatively scheduled for September 17, 2021, which will be noticed separately. The public should take note that this public hearing will be the only opportunity to offer oral comment to the Commission for the listed projects and proposals. The deadline for the submission of written comments is August 23, 2021.

DATES: The public hearing will convene on August 12, 2021, at 6:30 p.m. The public hearing will end at 9:00 p.m. or at the conclusion of public testimony, whichever is sooner. The deadline for the submission of written comments is August 23, 2021.

ADDRESSES: This hearing will be held by telephone conference rather than at a physical location. Conference Call # 1-877-668-4493 (Toll-Free number)/Access code: 177 232 3507.

FOR FURTHER INFORMATION CONTACT: Jason Oyler, General Counsel and Secretary to the Commission, telephone: (717) 238-0423; fax: (717) 238-2436.

Information concerning the applications for these projects is available at the Commission's Water Application and Approval Viewer at https://www.srbc.net/waav. Additional supporting documents are available to inspect and copy in accordance with the Commission's Access to Records Policy at www.srbc.net/regulatory/policies-guidance/docs/access-to-records-policy-2009-02.pdf.

SUPPLEMENTARY INFORMATION:

The public hearing will cover the following projects:

Projects Scheduled for Action:

1. Project Sponsor and Facility: Aqua-ETC Water Solutions, LLC (West Branch Susquehanna River), Piatt Township, Lycoming County, Pa. Modification to update flow protection rates to be in accordance with current Low Flow Protection Policy No. 2012-01 (Docket No. 20120302).

2. Project Sponsor and Facility: ARD Operating, LLC (Loyalsock Creek), Hillsgrove Township, Sullivan County, Pa. Application for surface water withdrawal of up to 1.700 mgd (peak day).

3. Project Sponsor and Facility: Blossburg Municipal Authority, Hamilton Township, Tioga County, Pa. Application for renewal of groundwater withdrawal of up to 0.245 mgd (30-day average) from Well 1 (Docket No. 19890105).

4. Project Sponsor and Facility: East Hempfield Township Municipal Authority, East Hempfield Township, Lancaster County, Pa. Applications for renewal of groundwater withdrawals (30-day averages) of up to 0.353 mgd from Well 6, 0.145 mgd from Well 7, 1.447 mgd from Well 8, and 1.660 mgd from Well 11, and Commission-initiated modification to Docket No. 20120906, which approves withdrawals from Wells 1, 2, 3, 4, and 5 and Spring S-1 (Docket Nos. 19870306, 19890503, 19930101, and 20120906).

5. Project Sponsor: Glenn O. Hawbaker, Inc. Project Facility: Naginey Facility, Armagh Township, Mifflin County, Pa. Applications for groundwater withdrawal of up to 0.300 mgd (30-day average) from the Quarry Pit Pond and consumptive use of up to 0.310 mgd (peak day).

6. Project Sponsor and Facility: Village of Greene, Chenango County, N.Y. Application for renewal of groundwater withdrawal of up to 0.181 mgd (30-day average) from Well 3 (Docket No. 19970303).

7. Project Sponsor: New York State Office of Parks, Recreation and Historic Preservation. Project Facility: Indian Hills State Golf Course (Irrigation Pond), Towns of Erwin and Lindley, Steuben County, N.Y. Applications (30-day averages) for surface water withdrawal of up to 0.300 mgd and consumptive use of up to 0.300 mgd.

8. Project Sponsor and Facility: Pennsylvania State University, Ferguson Township, Centre County, Pa. Applications for renewal of groundwater withdrawal of up to 0.960 mgd (30-day average) from Well UN-37 and consumptive use of up to 1.620 mgd (peak day) (Docket No. 19890106-1).

9. Project Sponsor and Facility: Selinsgrove Municipal Authority, Borough of Selinsgrove and Penn Township, Snyder County, Pa. Applications for groundwater withdrawals (30-day averages) of up to 0.465 mgd from Well 3 and renewal of up to 0.707 mgd from Well 4 (Docket No. 19910904).

10. Project Sponsor: SUEZ Water Pennsylvania, Inc. Project Facility: Newberry Operation, Newberry Township, York County, Pa. Application for renewal of groundwater withdrawal of up to 0.043 mgd (30-day average) from the Eden Well (Docket No. 19910102).

11. Project Sponsor and Facility: Transcontinental Gas Pipe Line Company, LLC (Susquehanna River), Wyoming Borough, Luzerne County, Pa. Applications (peak day) for surface water withdrawal of up to 5.760 mgd and consumptive use of up to 0.100 mgd.

Commission-Initiated Project Approval Modification:

1. Project Sponsor: Knouse Foods Cooperative, Inc. Project Facility: Gardners Plant, Tyrone Township, Adams County, Pa. Conforming the grandfathered quantity with the forthcoming determination for a groundwater withdrawal of up to 0.183 mgd (30-day average) from Wells 3, 5, 6, 8, and 10 (Docket No. 20041211).

Opportunity To Appear and Comment

Interested parties may call into the hearing to offer comments to the Commission on any business listed above required to be the subject of a public hearing. Given the telephonic nature of the meeting, the Commission strongly encourages those members of the public wishing to provide oral comments to pre-register with the Commission by emailing Jason Oyler at joyler@srbc.net prior to the hearing date. The presiding officer reserves the right to limit oral statements in the interest of time and to otherwise control the course of the hearing. Access to the hearing via telephone will begin at 6:15 p.m. Guidelines for the public hearing are posted on the Commission's website, www.srbc.net, prior to the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.net/regulatory/public-comment/. Comments mailed or electronically submitted must be received by the Commission on or before August 23, 2021, to be considered.

Authority: Pub. L. 91-575, 84 Stat. 1509 et seq., 18 CFR parts 806, 807, and 808.

Dated: July 14, 2021.
Jason E. Oyler,
General Counsel and Secretary to the Commission.

[FR Doc. 2021-15262 Filed 7-16-21; 8:45 am]

BILLING CODE 7040-01-P